DEPARTMENT OF JUSTICE

Notice of Lodging of Consent Decree Pursuant to the Clean Water Act

In accordance with 28 CFR 50.7, 38 FR 19029, notice is hereby given that on May 11, 2006, a Consent Decree was lodged with the United States District Court for the District of Connecticut in United States v. Metropolitan District of Hartford, Connecticut, Civil Action No. 3:06-cv-00728-PCD. A complaint was also filed simultaneously with the lodging of the Consent Decree. In the complaint the United States, on behalf of the U.S. Environmental Protection Agency (EPA), alleges that the defendant Metropolitan District of Connecticut (“the MDC”) violated the Clean Water Act, 33 U.S.C. 1251, et seq., (“CWA”) in connection with the MDC's operation of its publicly-owned treatment works. The compliant alleges that the MDC discharged untreated wastewater to navigable waters through point sources other than those authorized by the MDC's permit. The consent decree requires the MDC to pay a civil penalty of $850,000-$425,000 to the co-plaintiff State of Connecticut and $425,000 to the United States—and to perform injunctive relief to achieve compliance with the Clean Water Act.

The Department of Justice will receive comments relating to the proposed Consent Decree for a period of thirty (30) days from the date of this publication. Comments should be addressed to the Assistant Attorney General, Environment and Natural Resources Division, Department of Justice, P.O. Box 7611, Washington, DC 20044, and should refer to United States v. Metropolitan District Commission, D.J. Ref. 90-5-1-1-084404.

The proposed consent decree may be examined at the office of the United States Attorney, 157 Church St., New Haven, Connecticut, 06510, and at the Region I office of the Environmental Protection Agency, One Congress Street, Suite 1100, Boston, Massachusetts 02114. During the public comment period, the Consent Decree may also be examined on the following Department of Justice Web site: http://www.usdoj.gov/enrd/open.html. A copy of the proposed consent decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy, please enclose a check (there is a 25 cent per reproduction cost) in the amount of $43.25 payable to the “U.S. Treasury.”

Ronald G. Gluck,
Assistant Chief, Environmental Enforcement Section, Environment & Natural Resources Division.

[FR Doc. 06-4661 Filed 5-17-06; 8:45 am]

BILLING CODE 4410-15-M